FEDERAL COMMUNICATIONS COMMISSION

47 CFR Part 73

[DA 05-293; MB Docket No. 04-25; RM-10849]

Radio Broadcasting Services; Laughlin, Nevada and Meadview, AZ

AGENCY: Federal Communications Commission.

ACTION: Proposed rule, denial.

SUMMARY: This document denies a petition for rule making filed by Desert Sky Media, LLC, licensee of Station KVGS(FM), Laughlin, Nevada. The petition's proposal to reallot Channel 300C from Laughlin to Meadview, Arizona, as the community's first local transmission service, would remove the sole local aural transmission service from Laughlin and is thus denied. Hodson Broadcasting's comments in opposition are dismissed as moot.

DATES: Effective upon publication in the Federal Register.

ADDRESSES: Secretary, Federal Communications Commission, 445 12th Street, SW., Room TW-A325, Washington, DC 20554. In addition to filing comments with the FCC, interested parties should serve the petitioner's counsel, as follows: Lee J. Peltzman, Esq., Shainis & Peltzman, Chartered, 1850 M Street, NW., Suite 240, Washington, DC 20036; Mark N. Lipp, Esq., J. Thomas Nolan, Esq., Vinson & Elkins, LLP, 1455 Pennsylvania Avenue, NW., Suite 600, Washington, DC 20004-1008

FOR FURTHER INFORMATION CONTACT: Victoria M. McCauley, Media Bureau, (202) 418-2180.

SUPPLEMENTARY INFORMATION: This is a synopsis of the Commission's Report and Order, MB Docket No. 04-25, adopted February 2, 2005, and released February 4, 2005. The full text of this Commission decision is available for inspection and copying during regular business hours in the FCC's Reference Information Center at Portals II, 445 12th Street, SW., CY-A257, Washington, DC, 20554. This document may also be purchased from the Commission's duplicating contractors, Best Copy and Printing, Inc., 445 12th Street, SW., Room CY-B402, Washington, DC, 20054, telephone 1-800-378-3160 or http://www.BCPIWEB.com. This document is not subject to the Congressional Review Act. (The Commission, is, therefore, not required to submit a copy of this Report and Order to GAO, pursuant to the Congressional Review Act, see 5 U.S.C. 801(a)(1)(A) because this proposed rule was denied.

Federal Communications Commission.
John A. Karousos,
Assistant Chief, Audio Division, Media Bureau.

[FR Doc. 05-3210 Filed 2-17-05; 8:45 am]

BILLING CODE 6712-01-P